CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C.. 3506(c)(2)(A)). This program helps to ensure that requested data can be provided in the desired format, reporting burden (time and financial resources) is minimized, collection instruments are clearly understood, and the impact of collection requirement on respondents can be properly assessed.

Currently, CNCS is soliciting comments concerning its proposed renewal of the Segal AmeriCorps Education Award Matching Program Commitment Form. This form is submitted by institutions of higher education that provide educational benefits for AmeriCorps alumni. These benefits can include matching the AmeriCorps Education Award that members receive after successful completion of the AmeriCorps program, scholarships, and application fee waivers. Completion of this information collection is required for institutions to enroll in the Segal AmeriCorps Education Award Matching Program and appear on the Segal AmeriCorps Education Award Matching Program section of the Corporation for National and Community Service Web site.

Copies of the information collection request can be obtained by contacting the office listed in the Addresses section of this Notice.

DATES: Written comments must be submitted to the individual and office listed in the ADDRESSES section by September 23, 2013.

ADDRESSES: You may submit comments, identified by the title of the information collection activity, by any of the following methods:

(1) By mail sent to: Corporation for National and Community Service, Segal AmeriCorps Education Award Matching Program; Attention: Elizabeth Matthews, AmeriCorps VISTA Outreach Specialist, Room 9110B; 1201 New York Avenue NW., Washington, DC 20525.

(2) By hand delivery or by courier to the CNCS mailroom at Room 8100 at the mail address given in paragraph (1) above, between 9:00 a.m. and 4:00 p.m. Eastern Time, Monday through Friday, except Federal holidays.

(3) By fax to: (202) 606-3475, Attention: Elizabeth Matthews, AmeriCorps VISTA Outreach Specialist.

(4) Electronically through www.regulations.gov.

Individuals who use a telecommunications device for the deaf (TTY-TDD) may call 1-800-833-3722 between 8:00 a.m. and 8:00 p.m. Eastern Time, Monday through Friday.

FOR FURTHER INFORMATION CONTACT: Elizabeth Matthews, (202) 606-6774, or by email at ematthews@cns.gov.

SUPPLEMENTARY INFORMATION:

CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The information is provided by institutions of higher education who are requesting to be listed on the Segal AmeriCorps Education Award Matching Program section of the Corporation for National and Community Service Web site. The information will be collected electronically by the Corporation for National and Community Service.

Current Action

CNCS seeks to renew the current information collection. The information collected will be used to determine if institutions of higher education are eligible to be listed on the Segal AmeriCorps Education Award Matching Program section of the Corporation for National and Community Service Web site.

The information collection will otherwise be used in the same manner as the existing application.

Type of Review: Renewal.

Agency: Corporation for National and Community Service.

Title: Segal AmeriCorps Education Award Matching Program Commitment Form.

OMB Number: 3045-0143.

Agency Number: None.

Affected Public: Institutions of higher education that provide incentives for AmeriCorps alumni such as matching the AmeriCorps Education Award that members receive after successful completion of the AmeriCorps Program and that request to be listed on the Segal AmeriCorps Education Award Matching Program section of the Corporation for National and Community Service Web site.

Total Respondents: Estimated 200 colleges and universities.

Frequency: Once every five years.

Average Time per Response: Average 30 minutes.

Estimated Total Burden Hours: 100 hours.

Total Burden Cost (capital/startup): None.

Total Burden Cost (operating/maintenance): None.

Comments submitted in response to this notice will be summarized and/or included in the request for Office of Management and Budget approval of the information collection request; they will also become a matter of public record.

Dated: July 18, 2013.
Erin Dahlin,
Deputy Director of Program Coordination.

[FR Doc. 2013-17686 Filed 7-22-13; 8:45 am]

BILLING CODE 6050-28-P